DEPARTMENT OF ENERGY

Federal Energy Regulatory Commission

[Docket No. PF09-1-000]

Tennessee Gas Pipeline Company; Notice of Intent To Prepare an Environmental Assessment for the 300 Line Project, Request for Comments on Environmental Issues, and Notice of Public Scoping Meetings

February 4, 2009.

The staff of the Federal Energy Regulatory Commission (FERC or Commission) will prepare an environmental assessment (EA) that will discuss the environmental impacts that could result from the construction and operation of the 300 Line Project. The project is planned by Tennessee Gas Pipeline Company (TGP) to expand the natural gas transportation capacity of its existing 300 Line pipeline in Pennsylvania and New Jersey.

This Notice of Intent (NOI) announces the opening of the scoping process used to gather input from the public and interested agencies on the project. Your input will help the Commission staff determine which issues need to be evaluated in the EA. The staff will also use the scoping process to determine whether preparation of an environmental impact statement is more appropriate for this project based on the anticipated level of impacts. Please note that the scoping period will close on March 6, 2009.

Comments may be submitted in written or verbal form. Further details on how to submit written comments are provided in the Public Participation section of this notice. In lieu of or in addition to sending written comments, we invite you to attend the public scoping meetings scheduled as follows.

Date and time | Location
Tuesday, February 24, 2009, 7 p.m. (EST) | Walnut Ridge Primary School, 625 County Route 517, Vernon, New Jersey.
Wednesday, February 25, 2009, 7 p.m. (EST) | Montrose High School, 50 High School Road, Montrose, Pennsylvania.
Thursday, February 26, 2009, 7 p.m. (EST) | Mansfield University, Room G3, Allen Hall, 135 Stadium Drive, Mansfield, Pennsylvania.

Interested groups and individuals are encouraged to attend the meetings and to present comments on the environmental issues they believe should be addressed in the EA. A transcript of the meetings will be generated so that your comments will be accurately recorded.

This notice is being sent to affected landowners; federal, state, and local government representatives and agencies; environmental and public interest groups; Native American tribes; other interested parties in this proceeding; and local libraries and newspapers. We ¹ encourage government representatives to notify their constituents of the planned project and encourage them to comment on their areas of concern.

¹ “We”, “us”, and “our” refer to the environmental staff of the Office of Energy Projects (OEP).

If you are a landowner receiving this notice, you may be contacted by a pipeline company representative about the acquisition of an easement to construct, operate, and maintain the planned facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” is available for viewing on the FERC Internet Web site (www.ferc.gov). This fact sheet addresses a number of typically asked questions, including the use of eminent domain and how to participate in the Commission's proceedings.

Summary of the Proposed Project

TGP is requesting authorization to construct, own, and operate the facilities necessary to increase natural gas delivery capacity to the northeast region of the United States by approximately 300,000 dekatherms per day. In addition to increasing natural gas delivery capacity in the region, TGP would also upgrade certain existing compressor units to improve overall system reliability.

The 300 Line Project would consist of the following facilities:

• Installation of approximately 128.4 miles of new 30-inch-diameter pipeline in seven separate looping ² segments ranging in length from 14.6 miles to 22.5 miles in Potter, Tioga, Bradford, Susquehanna, Wayne, and Pike Counties, Pennsylvania; and Sussex and Passaic Counties, New Jersey;

² A loop is a segment of pipeline that is usually installed adjacent to an existing pipeline and connected to it at both ends. The loop allows more gas to be moved through the system.

• Construction of a new 15,000 horsepower (hp) compressor station (Station 303) in Venango County, Pennsylvania;

• Construction of a new 15,400 hp compressor station (Station 310) in McKean County, Pennsylvania;

• Modification to an existing meter station in Bergen County, New Jersey;

• Modifications to seven existing compressor stations in Potter (Station 313), Tioga (Station 315), Bradford (Station 317 and 319), Susquehanna (Station 321), and Pike Counties (Station 323), Pennsylvania, and Sussex County (Station 325), New Jersey, resulting in increased hp at five of the seven existing stations; and

• Installation of associated appurtenant aboveground facilities including mainline valves and pig ³ launchers and receivers.

³ A pig is an internal tool that can be used to clean and dry a pipeline and/or to inspect it for damage or corrosion.

The location of the project facilities is shown in Appendix 1.⁴

⁴ The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

Construction of the 300 Line Project would require about 2,091.7 acres of land including pipeline, aboveground facilities, appurtenant facilities, and pipe storage and contractor yards. Following construction, about 1,149.9 acres would be used for operation of the project facilities. The area disturbed during construction but not required for operation would generally be allowed to revert to pre-construction condition.

The planned pipeline loops would be located within and directly adjacent to the existing 300 Line right-of-way and at a typical offset of 25 feet from the existing pipeline to the extent practicable. Construction and operation of the two new compressor stations would occur within larger land tracts to be acquired by TGP, and the proposed modifications to existing compressor stations would occur within the existing fenceline of the facilities.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this NOI, the Commission staff requests public comments on the scope of the issues to address in the EA. All comments received will be considered during the preparation of the EA. State and local government representatives are encouraged to notify their constituents of this proposed action and encourage them to comment on their areas of concern.

In the EA we will discuss impacts that could occur as a result of the construction and operation of the planned project under these general headings:

• Geology and soils;

• Land use;

• Water resources, fisheries, and wetlands;

• Cultural resources;

• Vegetation and wildlife;

• Air quality and noise;

• Endangered and threatened species; and

• Public safety.

We will also evaluate possible alternatives to the planned project or portions of the project, and make recommendations on how to lessen or avoid impacts on the various resource areas.

Although no formal application has been filed, we have already initiated our NEPA review under the Commission's Pre-Filing Process. The purpose of the Pre-Filing Process is to encourage early involvement of interested stakeholders and to identify and resolve issues before an application is filed with the FERC. As part of our Pre-Filing Process review, we have begun to contact some federal and state agencies to discuss their involvement in the scoping process and the preparation of the EA. In addition, representatives from the FERC participated in public open houses sponsored by TGP in the project area in December 2008 and January 2009, to explain the environmental review process to interested stakeholders.

Our independent analysis of the issues will be in the EA. Depending on the comments received during the scoping process, the EA may be published and mailed to federal, state, and local agencies; public interest groups; interested individuals; affected landowners; newspapers; libraries; and the Commission's official service list for this proceeding. A comment period will be allotted for review if the EA is published. We will consider all comments on the EA before we make our recommendations to the Commission. To ensure your comments are considered, please carefully follow the instructions in the Public Participation section below.

With this NOI, we are asking federal, state, and local agencies with jurisdiction and/or special expertise with respect to environmental issues to formally cooperate with us in the preparation of the EA. These agencies may choose to participate once they have evaluated the proposal relative to their responsibilities. Additional agencies that would like to request cooperating agency status should follow the instructions for filing comments provided under the Public Participation section of this NOI.

Currently Identified Environmental Issues

We have already identified several issues that we think deserve attention based on a preliminary review of the planned facilities, comments made to us at TGP's open houses, preliminary consultations with other agencies, and the environmental information provided by TGP. This preliminary list of issues may be changed based on your comments and our analysis:

• Compatibility with the Wallkill River National Wildlife Refuge in Sussex County, New Jersey, where proposed Loop 325 would cross the refuge for approximately 0.8 mile;

• Compatibility of the planned Loop 325 on lands under jurisdiction of the New Jersey Highlands Council;

• Potential impacts on nearby residences including wells and septic systems, land use restrictions, and property values;

• Aesthetic impacts, including the loss of trees in residential areas;

• Potential impacts on threatened or endangered species including the Indiana bat and the Bog turtle;

• Noise concerns associated with the new compressor stations (Stations 303 and 310); and

• Assessment of alternatives including alternatives that would avoid or reduce impacts on the Wallkill River National Wildlife Refuge and Long Pond Iron Works State Park, and alternative compressor station locations.

Public Participation

You can make a difference by providing us with your specific comments or concerns about the 300 Line Project. Your comments should focus on the potential environmental effects, reasonable alternatives, and measures to avoid or lessen environmental impacts. The more specific your comments, the more useful they will be. To ensure that your comments are timely and properly recorded, please send in your comments so that they will be received in Washington, DC on or before March 6, 2009.

For your convenience, there are three methods you can use to submit your written comments to the Commission. In all instances please reference the project docket number PF09-1-000 with your submission. The Commission encourages electronic filing of comments and has dedicated eFiling expert staff available to assist you at 202-502-8258 or efiling@ferc.gov.

(1) You may file your comments electronically by using the Quick Comment feature, which is located on the Commission's internet Web site at www.ferc.gov under the link to Documents and Filings. A Quick Comment is an easy method for interested persons to submit text-only comments on a project;

(2) You may file your comments electronically by using the eFiling feature, which is located on the Commission's internet Web site at www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426.

Label one copy of the comments for the attention of Gas Branch 1, PJ-11.1.

Becoming an Intervenor

Once TGP formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “eFiling” link on the Commission's Web site. Please note that you may not request intervenor status at this time; you must wait until the formal application is filed with the Commission.

Environmental Mailing List

An effort is being made to send this notice to all individuals, organizations, and government entities interested in and/or potentially affected by the planned project. This includes all landowners who are potential right-of-way grantors, whose property may be used temporarily for project purposes, or who own homes within distances defined in the Commission's regulations of certain aboveground facilities.

If you do not want to send comments at this time but still want to remain on our mailing list, please return the Information Request (Appendix 2). If you do not return the Information Request, you will be taken off the mailing list.

Availability of Additional Information

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Public meetings or site visits will be posted on the Commission's calendar located at www.ferc.gov/EventCalendar/EventsList.aspx along with other related information.

Finally, to request additional information on the project or to provide comments directly to the project sponsor, you can contact TGP directly be calling toll free at 1-866-208-3676. Also, TGP has established an Internet Web site at www.elpaso.com/TGP300LineExpansion/default.shtm. The Web site includes a description of the Project, an overview map of the proposed facilities, and links to related documents. TGP will update the Web site as the environmental review of its project proceeds.

Kimberly D. Bose,
Secretary.

[FR Doc. E9-2865 Filed 2-10-09; 8:45 am]

BILLING CODE 6717-01-P